DEPARTMENT OF ENERGY

Federal Energy Regulatory Commission

[Project No. 3442-029]

City of Nashua, New Hampshire; Notice of Intent To Prepare an Environmental Assessment

On July 30, 2021, City of Nashua (Nashua) filed an application for a new license for the 3-megawatt Mine Falls Hydroelectric Project No. 3442 (project). The project is located on the Nashua River in Hillsborough County, New Hampshire.

In accordance with the Commission's regulations, on November 21, 2023, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Mine Falls Project.

The EA will be issued and circulated for review by all interested parties. All comments filed on the EA will be analyzed by staff and considered in the Commission's final licensing decision.

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

The application will be processed according to the following schedule. Revisions to the schedule may be made as appropriate.

¹ The Council on Environmental Quality's (CEQ) regulations under 40 CFR 1501.10(b)(1) require that EAs be completed within 1 year of the federal action agency's decision to prepare an EA. This notice establishes the Commission's intent to prepare an EA for the Mine Falls Project. See National Environmental Policy Act, 42 U.S.C. 4321 et seq., as amended by section 107(g)(1)(B)(iii) of the Fiscal Responsibility Act of 2023, Public Law 118-5, 4336a, 137 Stat. 42.

Milestone | Target date
Commission issues EA | February 2025.¹
Comments on EA | March 2025.

Any questions regarding this notice may be directed to Khatoon Melick at (202) 502-8433 or khatoon.melick@ferc.gov.

Dated: February 13, 2024.
Debbie-Anne A. Reese,
Acting Secretary.

[FR Doc. 2024-03426 Filed 2-20-24; 8:45 am]

BILLING CODE 6717-01-P